DEPARTMENT OF LABOR

Employment and Training Administration

[TA-W-56,092]

Oxford Automotive, Alma, MI; Notice of Termination of Investigation

Pursuant to Section 221 of the Trade Act of 1974, as amended, an investigation was initiated on November 26, 2004 in response to a petition filed on behalf of workers at Oxford Automotive, Alma, Michigan.

The petitioning group of workers is covered by an earlier petition (TA-W-56,014) filed on November 17, 2004 that is the subject of an ongoing investigation for which a determination has not yet been issued. Further investigation in this case would duplicate efforts and serve no purpose; therefore the investigation under this petition has been terminated.

Signed at Washington, DC this 6th day of December, 2004.
Linda G. Poole,
Certifying Officer, Division of Trade Adjustment Assistance.

[FR Doc. E4-3769 Filed 12-21-04; 8:45 am]

BILLING CODE 4510-30-P